DEPARTMENT OF COMMERCE

National Oceanic and Atmospheric Administration

[I.D. 121901C]

Permits; Foreign Fishing; Correction

AGENCY: National Marine Fisheries Service (NMFS), National Oceanic and Atmospheric Administration (NOAA), Commerce.

ACTION: Notice of receipt of foreign fishing applications; correction.

SUMMARY: NMFS published for public review and comment a summary of applications submitted by the Government of the Russian Federation requesting authorization to conduct fishing operations in the U.S. Exclusive Economic Zone in 2002 under provisions of the Magnuson-Stevens Fishery Conservation and Management Act. The document contained incorrect dates.

FOR FURTHER INFORMATION CONTACT: Robert A. Dickinson, Office of Sustainable Fisheries, (301) 713-2276.

SUPPLEMENTARY INFORMATION:

Correction

In the Federal Register of December 28, 2001, in FR Doc. 01-31975, make the following corrections:

1. On page 67228, in the third column, under the heading, SUPPLEMENTARY INFORMATION, in the fifth line of the second paragraph, “(JV) operations in 2001” should read “(JV) operations in 2002.”

2. On page 67229, in the first column, in the fifth line, “vessels in 2001.” should read “vessels in 2002.”

Dated: January 24, 2002.
Jonathan M. Kurland,
Acting Director, Office of Sustainable Fisheries, National Marine Fisheries Service.

[FR Doc. 02-2260 Filed 1-29-02; 8:45 am]

BILLING CODE 3510-22-S